ENVIRONMENTAL PROTECTION AGENCY

[ER-FRL-9051-3]

Environmental Impact Statements; Notice of Availability

Responsible Agency: Office of Federal Activities, General Information 202-564-5632 or https://www.epa.gov/nepa.

Weekly receipt of Environmental Impact Statements (EIS)

Filed June 1, 2020, 10 a.m. EST Through June 8, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200119, Draft, USFWS, BLM, UT, Northern Corridor—Highway Right-of-way, Issuance of an Incidental Take Permit, Draft EIS and Draft Resource Management Plan Amendments, Comment Period Ends: 09/10/2020, Contact: Gloria Tibbetts 435-865-3063.

EIS No. 20200120, Draft, FRA, DC, Washington Union Station Expansion Project, Comment Period Ends: 07/27/2020, Contact: David Valenstein 202-493-6368.

EIS No. 20200121, Draft, BIA, CA, Tejon Trust Acquisition and Casino Project, Comment Period Ends: 07/27/2020, Contact: Chad Broussard 916-978-6165.

EIS No. 20200122, Final, BLM, CO, Proposed Competitive Mineral Materials Sale (COC-078119) at Parkdale, Fremont County, CO. Review Period Ends: 07/13/2020, Contact: Stephanie Carter 719-269-8551.

EIS No. 20200123, Draft Supplement, BOEM, MA, Vineyard Wind 1 Offshore Wind Energy Project, Comment Period Ends: 07/27/2020, Contact: Michelle Morin 703-787-1722.

Amended Notice

EIS No. 20200118, Draft, BR, UT, Lake Powell Pipeline Project, Comment Period Ends: 09/08/2020, Contact: Rick Baxter 801-379-1078. Revision to FR Notice Published 6/5/2020; Extending the Comment Period from 9/3/2020 to 9/8/2020.

Dated: June 9, 2020.
Cindy S. Barger,
Director, NEPA Compliance Division, Office of Federal Activities.

[FR Doc. 2020-12732 Filed 6-11-20; 8:45 am]

BILLING CODE 6560-50-P